DEPARTMENT OF COMMERCE

International Trade Administration

[A-821-808]

Certain Cut-to-Length Carbon Steel Plate from the Russia; Preliminary Results of Administrative Review of the Suspension Agreement

AGENCY: Import Administration, International Trade Administration, Department of Commerce.

ACTION: Notice of Preliminary Results of the Administrative Review of the Suspension Agreement on Certain Cut-to-Length Carbon Steel Plate from the Russia.

SUMMARY: In response to a request from Nucor Corporation (Nucor), a domestic interested party, the Department of Commerce (the Department) is conducting an administrative review of the Agreement Suspending the Antidumping Investigation of Certain Cut-to-Length Carbon Steel Plate from the Russian Federation (the Agreement) for the period January 1, 2006 through December 31, 2006, to review the current status of the Agreement and compliance with the Agreement by Joint Stock Company Severstal (Severstal). For the reasons stated in this notice, the Department preliminarily determines that Severstal is in compliance with the Agreement. The preliminary results are set forth in the section titled “Preliminary Results of Review,” infra. Interested parties are invited to comment on these preliminary results. Parties who submit comments are requested to provide: (1) a statement of the issues, and (2) a brief summary of the arguments.

EFFECTIVE DATE: February 6, 2008.

FOR FURTHER INFORMATION CONTACT: Sally C. Gannon or Jay Carreiro, Import Administration, International Trade Administration, U.S. Department of Commerce, 14th Street and Constitution Avenue, N.W., Washington, D.C. 20230, telephone: (202) 482-0162 or (202) 482-3674.

SUPPLEMENTARY INFORMATION:

Background

On December 20, 2002, the Department signed an agreement under section 734(b) of the Tariff Act of 1930, as amended (the Act), with Russian steel producers/exporters, including Severstal, which suspended the antidumping duty investigation on certain cut-to-length carbon steel plate (CTL plate) from Russia. See Suspension of Antidumping Duty Investigation: Certain Cut-to-Length Carbon Steel Plate from the Russian Federation, 68 FR 3859 (January 27, 2003) (Suspension Agreement).

On January 3, 2007, Nucor submitted a request for an administrative review pursuant to Antidumping or Countervailing Duty Order, Finding, or Suspended Investigation; Opportunity to Request Administrative Review, 72 FR 99 (January 3, 2007). On March 14, 2007, and October 5, 2007, the Department issued its Questionnaire and Supplemental Questionnaire, respectively, to Severstal. Severstal submitted its responses on April 20, 2007, and October 26, 2007, respectively.

On October 1, 2007, the Department postponed the preliminary results of this review until January 31, 2008. See Notice of Extension of Time Limit for the Preliminary Results of Administrative Review of the Suspension Agreement on Certain Cut-to-Length Carbon Steel Plate from Russia, 72 FR 55744 (October 1, 2007).

Scope of Review

The products covered by the Agreement are hot-rolled iron and non-alloy steel universal mill plates (i.e., flat-rolled products rolled on four faces or in a closed box pass, of a width exceeding 150 mm but not exceeding 1250 mm and of a thickness of not less than 4 mm, not in coils and without patterns in relief), of rectangular shape, neither clad, plated nor coated with metal, whether or not painted, varnished, or coated with plastics or other nonmetallic substances; and certain iron and non-alloy steel flat-rolled products not in coils, of rectangular shape, hot-rolled, neither clad, plated, nor coated with metal, whether or not painted, varnished, or coated with plastics or other nonmetallic substances, 4.75 mm or more in thickness and of a width which exceeds 150 mm and measures at least twice the thickness. Included as subject merchandise in this petition are flat-rolled products of nonrectangular cross- section where such cross-section is achieved subsequent to the rolling process (i.e., products which have been “worked after rolling”)--for example, products which have been bevelled or rounded at the edges. This merchandise is currently classified in the Harmonized Tariff Schedule of the United States (HTS) under item numbers 7208.40.3030, 7208.40.3060, 7208.51.0030, 7208.51.0045, 7208.51.0060, 7208.52.0000, 7208.53.0000, 7208.90.0000, 7210.70.3000, 7210.90.9000, 7211.13.0000, 7211.14.0030, 7211.14.0045, 7211.90.0000, 7212.40.1000, 7212.40.5000, 7212.50.0000. Excluded from the subject merchandise within the scope of this Agreement is grade X-70 plate. Although the HTS subheadings are provided for convenience and customs purposes, our written description of the scope of this investigation is dispositive.

Period of Review

The period of review (POR) is January 1, 2006 through December 31, 2006.

Preliminary Results of Review

Section 751(a)(1)(C) of the Act specifies that the Department shall “review the current status of, and compliance with, any agreement by reason of which an investigation was suspended.” In this case, the Department and Severstal signed the Agreement, which suspended the underlying antidumping duty investigation, on December 20, 2002. Pursuant to the Agreement, each signatory producer/exporter individually agrees to make any necessary price revisions to eliminate completely any amount by which the normal value (NV) of the subject merchandise exceeds the U.S. price of its merchandise subject to the Agreement. SeeSuspension Agreement , 68 FR at 3860-61. For this purpose, the Department determines, on a semi-annual basis and as requested by a signatory, the NV in accordance with section 773(e) of the Act, and U.S. price in accordance with section 772 of the Act. Further, the Department calculates the NV for purposes of the Agreement by adjusting the constructed value; in effect, any expenses uniquely associated with the covered products sold in the domestic market are subtracted from the constructed value, and any such expenses which are uniquely associated with the covered products sold in the United States are added to the constructed value to calculate the NV. See Suspension Agreement at Appendix A.

On March 14, 2007 and October 5, 2007, the Department issued its questionnaire and supplemental questionnaire, respectively, to Severstal. Severstal submitted its responses on April 20, 2007 and October 26, 2007, respectively. Neither Nucor nor any other interested party has submitted comments to date. Our review of the information submitted by Severstal indicates that the company has adhered to the terms of the Agreement. In its questionnaire response, Severstal describes the system which it and its U.S. sales arm, Severstal Export GmbH, have established to ensure that each product sold to the United States is sold at or above the relevant NV. See Severstal Questionnaire Response, pages 7-9. Severstal indicates that it is committed to compliance with the Agreement and that its system of compliance has worked well since it began shipping subject merchandise under the Agreement. Severstal further indicates that neither it nor any of its affiliates made any sales of the subject merchandise into the United States below the appropriate NVs during the POR. See Severstal Questionnaire Response, page 9. In response to the Department's questionnaire, Severstal states that it did not sell the subject merchandise during the POR to customers in Canada or other third countries that was destined for the United States and is not aware of any such sales. See Severstal Questionnaire Response, page 10.

The Department finds no evidence in the information submitted of any discrepancies in Severstal's exports to the United States, either directly or through third countries, which would constitute a violation of the Agreement. Furthermore, the Department examined Severstal's reported sales and cost information covering the POR for purposes of calculating and releasing requested NVs to Severstal on December 20, 2006, and June 20, 2007. See December 20, 2006, letter from Ronald K. Lorentzen to JSC Severstal with attachments. See also June 20, 2007, letter from Ronald K. Lorentzen to JSC Severstal with attachments. The Department also verified Severstal's reported sales covering the period from January 1, 2006, through June 30, 2006, in October 2006. See “Sales Verification Report” Memorandum from Jonathan Herzog through Judith Wey Rudman to Case File (November 16, 2006). Therefore, in light of the record evidence described above, we preliminarily determine that Severstal has been in compliance with the Agreement.

Public Comment

An interested party may request a hearing within 30 days of publication of these preliminary results. See 19 C.F.R. 351.310(c). Any hearing, if requested, will be held 37 days after the date of publication, or the first business day thereafter, unless the Department alters the date per 19 CFR 351.310(d). Interested parties may submit case briefs no later than 30 days after the date of publication of these preliminary results of review. See 19 C.F.R. 351.309(c). Rebuttal briefs, limited to issues raised in the case briefs, may be filed no later than 35 days after the date of publication of this notice. See 19 C.F.R. 351.309(d). Parties who submit comments in these proceedings are requested to provide: (1) a statement of the issue; (2) a brief summary of the argument; and (3) a table of authorities. Further, parties submitting case briefs and/or rebuttal briefs are requested to provide the Department with an additional copy of the public version of any such briefs on diskette. The Department will issue the final results of this administrative review, including the results of our analysis of the issues raised in any written comments or at a hearing, if requested, within 120 days of publication of these preliminary results.

We are issuing and publishing this notice in accordance with sections 751(a)(1) and 777(i)(1) of the Act.

Dated: January 31, 2008.
David M. Spooner,
Assistant Secretary for Import Administration.

[FR Doc. E8-2176 Filed 2-5-08; 8:45 am]

BILLING CODE 3510-DS-S